DEPARTMENT OF LABOR

Employment and Training Administration

[TA-W-53,305]

Dillon Floral Corporation, Bloomsburg, PA; Notice of Termination of Investigation

Pursuant to section 221 of the Trade Act of 1974, as amended, an investigation was initiated on October 21, 2003 in response to a petition filed on behalf of workers at Dillon Floral Corporation, Bloomsburg, Pennsylvania.

The petitioner has requested that the petition be withdrawn. Consequently, further investigation would serve no purpose and the investigation has been terminated.

Signed at Washington, DC, this 10th day of November, 2003.
Linda G. Poole,
Certifying Officer, Division of Trade Adjustment Assistance.

[FR Doc. 03-29953 Filed 12-1-03; 8:45 am]

BILLING CODE 4510-30-P